ENVIRONMENTAL PROTECTION AGENCY

[FRL-9111-3]

Notice of Open Meeting of the Environmental Financial Advisory Board (EFAB)

AGENCY: Environmental Protection Agency (EPA).

ACTION: Notice.

SUMMARY: The United States Environmental Protection Agency's (EPA) Environmental Financial Advisory Board (EFAB) will hold a full board meeting on March 16-17, 2010. EFAB is an EPA advisory committee chartered under the Federal Advisory Committee Act (FACA) to provide advice and recommendations to EPA on creative approaches to funding environmental programs, projects, and activities.

The purpose of the meeting is to hear from informed speakers on environmental finance issues, proposed legislation, Agency priorities and to discuss progress with work projects under EFAB's current Strategic Action Agenda.

Environmental Finance topics expected to be discussed include: Financial Assurance Mechanisms (Commercial Insurance & Cost Estimation); Financial Assurance and CO2 Underground Injection Control/Carbon Capture and Sequestration; Water Loss Reduction; Innovative Financing Tools, and State Revolving Fund Investment Options.

The meeting is open to the public, however, seating is limited. All members of the public who wish to attend the meeting must register in advance, no later than Monday, March 8, 2010.

DATES: Full Board Meeting is scheduled for Tuesday, March 16, 2010 from 1:30 p.m.-5 p.m. and Wednesday, March 17, 2010 from 9 a.m.-5 p.m.:

ADDRESSES: Omni Shoreham Hotel, 2500 Calvert Street, NW., Washington, DC 20008.

Registration and Information Contact:

To register for this meeting or get further information please contact Sandra Keys, U.S. EPA, at (202) 564-4999 or keys.sandra@epa.gov. For information on access or services for individuals with disabilities, please contact Sandra Keys. To request accommodations of a disability, contact Sandra Keys, preferably at least 10 days prior to the meeting, to give EPA as much time as possible to process your request.

Dated: February 1, 2010.
Joshua Baylson,
Associate Chief Financial Officer.

[FR Doc. 2010-2664 Filed 2-5-10; 8:45 am]

BILLING CODE 6560-50-P